DEPARTMENT OF DEFENSE

Office of the Secretary

Department of Defense Medicare-Eligible Retiree Health Care Board of Actuaries; Notice of Federal Advisory Committee Meeting

AGENCY: Under Secretary of Defense for Personnel and Readiness, Department of Defense (DoD).

ACTION: Notice of open Federal Advisory Committee meeting.

SUMMARY: The DoD is publishing this notice to announce that the following Federal Advisory Committee meeting of the Department of Defense Medicare-Eligible Retiree Health Care Board of Actuaries, hereafter, “Board” will take place.

DATES: Open to the public Friday, July 29, 2022, from 10:00 a.m. to 1:00 p.m.

ADDRESSES: THIS MEETING WILL BE HELD VIRTUALLY. For information on accessing the meeting, please contact Inger Pettygrove, (703) 225-8803 or Inger.M.Pettygrove.civ@mail.mil before July 15, 2022 at 12:00 p.m. EDT.

FOR FURTHER INFORMATION CONTACT: Inger Pettygrove, (703) 225-8803 (voice), Inger.M.Pettygrove.civ@mail.mil (email). Mailing address is Defense Human Resources Activity, DoD Office of the Actuary, 4800 Mark Center Drive, STE. 03E25, Alexandria, VA 22350-8000. Website: https://actuary.defense.gov/. The most up-to-date changes to the meeting agenda can be found on the website.

SUPPLEMENTARY INFORMATION: This meeting is being held under the provisions of the Federal Advisory Committee Act (FACA) of 1972 (5 U.S.C., Appendix, as amended), the Government in the Sunshine Act of 1976 (5 U.S.C. 552b, as amended), and 41 CFR 102-3.140 and 102-3.150.

Purpose of the Meeting: The purpose of the meeting is to execute the provisions of 10 U.S.C. chapter 56 (10 U.S.C. 1114 et. seq). The Board shall review DoD actuarial methods and assumptions to be used in the valuation of benefits under DoD retiree health care programs for Medicare-eligible beneficiaries.

Agenda: Discussion includes (1) Approve actuarial assumptions and methods needed for calculating: The September 30, 2021, unfunded liability payment (UFL)*, the FY 2024 per capita full-time and part-time normal cost amounts *, and the October 1, 2022, Treasury UFL amortization payment *; (2) Approve per capita full-time and part-time normal cost amounts for the October 1, 2022 (FY 2023) normal cost payments *; (3) Trust Fund investment experience update; (4) Medicare-Eligible Retiree Health Care Fund Update; (5) September 30, 2020, Actuarial Valuation Results; and (6) September 30, 2021, Actuarial Valuation Proposals. For * items, Board approval is required. Registered participants may obtain the most recent public agenda and other documentation by emailing the points of contact in the FOR FURTHER INFORMATION CONTACT section or on the Board's website.

Meeting Accessibility: Pursuant to FACA and 41 CFR 102-3.140, this meeting is open to the public.

Written Statements: In accordance with Section 10(a)(3) of the FACA and 41 CFR 102-3.105(j) and 102-3.140, interested persons may submit a written statement for consideration at any time, but should be received at least 10 business days prior to the meeting date so that the comments may be made available to the Board for their consideration prior to the meeting. Written statements should be submitted via email to Inger Pettygrove at Inger.M.Pettygrove.civ@mail.mil, by July 15, 2022, in either Adobe or Microsoft Word format. Please note that since the Board operates under the provisions of the FACA, as amended, all submitted comments and public presentations will be treated as public documents and will be made available for public inspection, including, but not limited to, being posted on the Board website.

Dated: May 12, 2022.
Aaron T. Siegel,
Alternate OSD Federal Register Liaison Officer, Department of Defense.

[FR Doc. 2022-10581 Filed 5-16-22; 8:45 am]

BILLING CODE 5001-06-P